DEPARTMENT OF COMMERCE

National Oceanic and Atmospheric Administration

RIN 0648-XE201

Notice of Availability of the Deepwater Horizon Oil Spill Louisiana Trustee Implementation Group Draft Strategic Restoration Plan and Environmental Assessment #3: Restoration of Wetlands, Coastal and Nearshore Habitats in the Barataria Basin, Louisiana

AGENCY: National Marine Fisheries Service (NMFS), National Oceanic and Atmospheric Administration (NOAA), Department of Commerce.

ACTION: Notice of availability.

SUMMARY: In accordance with the Oil Pollution Act of 1990 (OPA), the National Environmental Policy Act (NEPA), and a Consent Decree with BP Exploration & Production Inc. (BP), the Deepwater Horizon Federal and State natural resource trustee agencies for the Louisiana Trustee Implementation Group (Louisiana TIG) have prepared the Draft Strategic Restoration Plan and Environmental Assessment #3: Restoration of Wetlands, Coastal, and Nearshore Habitats in the Barataria Basin, Louisiana (SRP/EA). The Draft SRP/EA identifies a restoration strategy that will help prioritize future decisions regarding project selection and funding. Rather than selecting specific projects for construction, the Trustees evaluate a suite of restoration techniques and approaches, for example large-scale diversions or marsh creation, to determine how to best support restoring ecosystem-level injuries in the Gulf of Mexico through restoration in the Barataria Basin.

The purpose of this notice is to inform the public of the availability of the Draft SRP/EA and to seek public comments on the document.

DATES: The Louisiana TIG will consider public comments received or postmarked on or before Monday, February 5, 2018.

Public Meetings: The Louisiana TIG will conduct two public meetings to provide information and seek public input on the Draft SRP/EA:

• January 17, 2018, in conjunction with the Coastal Protection and Restoration Authority Board Meeting; 9:30 a.m.; Louisiana State Capitol, House Committee Room 5; 900 North Third Street; Baton Rouge, LA 70802. Additional information regarding logistics for the Public Meeting, including the timing of the public comment opportunity following the Board Agenda, will be posted to the Louisiana (http://la-dwh.com) and DWH websites ((http://www.gulfspillrestoration.noaa.gov) (see ADDRESSES).

• January 24, 2018; 5:30 p.m.; University of New Orleans; Homer Hitt Alumni Center; 2000 Lakeshore Drive; New Orleans, LA 70148. The meeting will begin with an open house at 5:30 p.m. and follow with Louisiana TIG presentation and public comment opportunity at 6:00 p.m.

ADDRESSES: Obtaining Documents: You may download the Draft SRP at: http://www.gulfspillrestoration.noaa.gov, http://www.la-dwh.com.

Alternatively, you may request a CD of the Draft SRP/EA (see FOR FURTHER INFORMATION CONTACT). In addition, you may view the document at any of the public facilities listed at http://www.gulfspillrestoration.noaa.gov.

Submitting Comments: You may submit comments on the Draft SRP/EA by one of following methods:

• Via the Web: http://www.gulfspillrestoration.noaa.gov/restoration-areas/louisiana.

• Via U.S. Mail: U.S. Fish and Wildlife Service, P.O. Box 49567, Atlanta, GA 30345; or Louisiana Coastal Protection & Restoration Authority, ATTN: Liz Williams, P.O. Box 44027, Baton Rouge, LA 70804.

• In Person: Written and verbal comments may be submitted at the public meetings on January 17 and January 24, 2018.

FOR FURTHER INFORMATION CONTACT: • National Oceanic and Atmospheric Administration—Mel Landry, gulfspill.restoration@noaa.gov, (301) 427-8711.

• Louisiana—Liz Williams, LATIGPublicComments@la.gov, (225) 342-7308.

SUPPLEMENTARY INFORMATION:

Introduction

On April 20, 2010, the mobile offshore drilling unit Deepwater Horizon, which was being used to drill a well for BP in the Macondo prospect (Mississippi Canyon 252-MC252), exploded, caught fire, and subsequently sank in the Gulf of Mexico, resulting in an unprecedented volume of oil and other discharges from the rig and from the wellhead on the seabed. The Deepwater Horizon oil spill is the largest maritime oil spill in United States history, discharging millions of barrels of oil over a period of 87 days. In addition, well over one million gallons of dispersants were applied to the waters of the spill area in an attempt to disperse the spilled oil. An undetermined amount of natural gas also was released to the environment as a result of the spill.

The Deepwater Horizon Federal and State natural resource trustees (DWH Trustees) conducted the natural resource damage assessment (NRDA) for the Deepwater Horizon oil spill under the Oil Pollution Act of 1990 (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior, as represented by the National Park Service, U.S. Fish and Wildlife Service, and Bureau of Land Management;

• National Oceanic and Atmospheric Administration, on behalf of the U.S. Department of Commerce;

• U.S. Department of Agriculture;

• U.S. Environmental Protection Agency;

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• For the State of Texas, Texas Parks and Wildlife Department, Texas General Land Office, and Texas Commission on Environmental Quality.

On April 4, 2016, the DWH Trustees reached and finalized a settlement of their natural resource damages claims with BP in a Consent Decree approved by the U.S. District Court for the Eastern District of Louisiana. Pursuant to that Consent Decree, restoration projects in the Louisiana Restoration Area are now chosen and managed by the Louisiana TIG. The Louisiana TIG is comprised of the following DWH Trustees:

• State of Louisiana Coastal Protection and Restoration Authority (CPRA);

• Oil Spill Coordinator's Office (LOSCO);

• Department of Environmental Quality (LDEQ);

• Department of Wildlife and Fisheries (LDWF);

• Department of Natural Resources (LDNR);

• U.S. Department of the Interior, as represented by National Park Service, U.S. Fish and Wildlife Service, and Bureau of Land Management;

• National Oceanic and Atmospheric Administration, on behalf of the U.S. Department of Commerce;

• U.S. Department of Agriculture; and

• U.S. Environmental Protection Agency.

This restoration planning activity is proceeding in accordance with the PDARP/PEIS. Information on the Restoration Type considered in the Draft SRP/EA, as well as the OPA criteria against which alternatives were evaluated, can be viewed in the PDARP/PEIS (http://www.gulfspillrestoration.noaa.gov/restoration-planning/gulf-plan) and in the Overview of the PDARP/PEIS (http://www.gulfspillrestoration.noaa.gov/restoration-planning/gulf-plan).

Background

On March 29, 2017, the Louisiana TIG solicited project ideas to sustainably create, restore, and enhance coastal wetlands, and restore or preserve Mississippi River processes (http://www.gulfspillrestoration.noaa.gov/2017/03/request-restoration-project-ideas-louisiana). From that input and review of other Louisiana restoration planning efforts, including Louisiana's Coastal Master Plan and Deepwater Horizon restoration planning efforts, the Louisiana TIG published a notice of intent on April 28, 2017 announcing its initiation of strategic restoration planning through two phases (82 FR 19659). The first phase would prepare a strategic restoration plan for Louisiana's Barataria Basin. The Deepwater Horizon spill created an ecosystem-level injury to the Gulf of Mexico, which included accelerated loss of critical wetlands, coastal, and nearshore habitats as well as injuries across all trophic levels in the Gulf of Mexico. The most severe losses to coastal marshes, which represent the foundation of the Gulf of Mexico ecosystem, were focused on the Barataria Basin. As described in the April 28, 2017 notice, the Louisiana TIG has prepared this Draft SRP/EA which focuses on wetlands, coastal, and nearshore habitat restoration type projects in the Barataria Basin restoration area. This geographic focus is appropriate as the PDARP/PEIS found that the Barataria Basin experienced some of the heaviest and most persistent oiling from the DWH spill and because the Basin supports very high primary and secondary production that contributes to the overall health of the northern Gulf of Mexico ecosystem.

Overview of the Draft SRP/EA

The Draft SRP/EA is being released in accordance with OPA, the OPA NRDA regulations in the Code of Federal Regulations (CFR) at 15 CFR part 990, and NEPA (42 U.S.C. 4321 et seq.).

The Louisiana TIG focused this SRP/EA on two wetlands, coastal and nearshore habitat restoration approaches described in the PDARP/PEIS: Creating, restoring and enhancing coastal wetlands; and restoring and preserving Mississippi-Atchafalaya River processes. Within the two restoration approaches, the PDARP/PEIS identifies a series of potential restoration techniques. These techniques, spanning both restoration approaches, are as follows (PDARP/PEIS, Appendix 5.D):

• Create or enhance coastal wetlands through placement of dredged material;

• Backfill canals;

• Restore hydrologic connections to enhance coastal habitats;

• Construct breakwaters; and

• Controlled river diversions.

Four project types are carried forward for additional consideration:

• sediment diversion projects;

• large-scale marsh creation projects;

• ridge restoration projects; and

• breakwater construction projects (also referred to as shoreline protection projects).

After reviewing the restoration approaches and techniques, the Louisiana TIG identified 13 example projects from public submissions in response to the Notice of Solicitation and from the 2017 Coastal Master Plan. The Louisiana TIG then combined restoration techniques into four strategic restoration alternatives. With the exception of the natural recovery/no action alternative, each of these alternatives meets the Draft SRP/EA's purpose and need “to restore the ecosystem level injuries in Barataria Basin and to restore, rehabilitate, replace, or acquire the equivalent of the injured wetlands, coastal, and nearshore habitat resources and services and compensate for interim losses of those resources from the DWH oil spill.” The four strategic restoration alternatives are as follows:

• Alternative 1: Marsh creation, ridge restoration, and large-scale sediment diversion;

• Alternative 2: Marsh creation, ridge restoration, and shoreline protection;

• Alternative 3: Marsh creation and ridge restoration; and

• Alternative 4: Natural recovery/no action.

The Louisiana TIG is proposing two decisions in this draft SRP/EA to restore ecosystem-level injuries in the Gulf of Mexico through restoration of critical wetlands, coastal, and nearshore habitat resources and services in the Barataria Basin. First, the Louisiana TIG proposes a preferred alternative that relies on a suite of restoration techniques in the Barataria Basin, including large-scale sediment diversion, marsh creation, and ridge restoration. Second, the Louisiana TIG proposes to advance specific projects forward for further evaluation and planning: The Mid-Barataria Sediment Diversion and two marsh creation increments within Large Scale Marsh Creation: Component E in northern Barataria Basin. The LA TIG also confirms its 2017 decision to move the Spanish Pass Increment of the Barataria Basin Ridge and Marsh Creation project forward for further evaluation and planning. The trustees are not making a decision to fund these projects for construction at this time. Rather, the trustees will continue to consider the selected projects in future Phase II restoration plans including further OPA and NEPA evaluation.

The Louisiana TIG evaluated strategic restoration alternatives under criteria set forth in the OPA natural resource damage assessment regulations. The strategic restoration alternatives are consistent with the restoration alternatives selected in the Deepwater Horizon Oil Spill: Final Programmatic Damage Assessment and Restoration Plan/Programmatic Environmental Impact Statement (PDARP/PEIS).

NEPA requires federal agencies to consider the potential environmental impacts of planned actions. NEPA provides a mandate and framework for federal agencies to determine if their proposed actions have significant environmental effects and related social and economic effects, consider these effects when choosing between alternative approaches, and inform and involve the public in the environmental analysis and decision-making process. This SRP/EA tiers from the PDARP/PEIS and incorporates by reference the NEPA environmental consequences analysis found in Chapter 6 of the PDARP/PEIS. The Louisiana TIG has found, based on its evaluation in the EA portion of this SRP/EA that: (1) The PDARP/EIS included a thorough evaluation of the potential range of environmental effects that could result from the various restoration approaches and techniques analyzed in the PDARP; (2) the analysis of the environmental consequences of those approaches and techniques in the PDARP remains valid; (3) the effects of the restoration approaches and techniques, including the project selected for further planning and environmental review, evaluated in this SRP/EA are within the range of impacts evaluated in the PDARP; and (4) any new information regarding the environmental consequences of the restoration approaches and techniques, including the projects selected for further planning and environmental review, evaluated within this SRP/EA are within the range of and consistent with the environmental impacts identified and analyzed within the PDARP.

Next Steps

The public is encouraged to review and comment on the Draft SRP/EA. A public meeting has been scheduled to also help facilitate the public review and comment process. After the public comment period ends, the Louisiana TIG will consider the comments received before issuing a Final SRP/EA. A summary of comments received and the Louisiana TIG's responses and any revisions to the document, as appropriate, will be included in the final document.

Administrative Record

The documents comprising the Administrative Record for the Draft SRP/EA can be viewed electronically at http://www.doi.gov/deepwaterhorizon/adminrecord.

Authority

The authority for this action is OPA (33 U.S.C. 2701 et seq.), the OPA NRDA regulations at 15 CFR part 990, and NEPA (42 U.S.C. 4321 et seq.).

Dated: December 14, 2017.
Carrie Selberg,
Deputy Director, Office of Habitat Conservation, National Marine Fisheries Service.

[FR Doc. 2017-27295 Filed 12-19-17; 8:45 am]

BILLING CODE 3510-22-P